DEPARTMENT OF THE INTERIOR

Fish and Wildlife Service

50 CFR Part 17

[Docket No. FWS-R8-ES-2009-0044; 4500030113]

RIN 1018-AW86

Endangered and Threatened Wildlife and Plants; Designating Critical Habitat for the California Tiger Salamander; Correction

AGENCY: Fish and Wildlife Service, Interior.

ACTION: Final rule; Correction.

SUMMARY: We, the U.S. Fish and Wildlife Service, published a final rule in the Federal Register on August 31, 2011, that designated critical habitat for the Sonoma County population of the California tiger salamander. Inadvertently, we made an error in our amendatory instructions, which resulted in an error in the Code of Federal Regulations. With this document, we correct our error.

DATES: Effective June 6, 2014.

FOR FURTHER INFORMATION CONTACT: Susan Wilkinson, (703) 358-2506.

SUPPLEMENTARY INFORMATION: We, the U.S. Fish and Wildlife Service, recently became aware that, in part 17 of title 50 of the Code of Federal Regulations (CFR), we have two entries for the Sonoma County distinct population segment of the California tiger salamander. This error in § 17.95(d) is the result of an incorrect amendatory instruction that published in a 2011 final rule. This document corrects the error in 50 CFR 17.95(d).

Proposed and Final Rules

In a proposed rule that published August 18, 2009 (74 FR 41662), the third amendatory instruction reads as follows:

“3. Amend § 17.95(d) by revising critical habitat for the California tiger salamander (Ambystoma californiense) in Sonoma County to read as follows:”

However, in the final rule that published August 31, 2011 (76 FR 54346), the third amendatory instruction reads like this:

“3. In § 17.95, amend paragraph (d) by adding an entry for “California Tiger Salamander (Ambystoma californiense) in Sonoma County” in the same order that the species appears in the table at § 17.11(h), to read as follows:”

The proposed rule was correct in using the word “revising,” as a critical habitat designation already existed for the Sonoma County distinct population segment of the California tiger salamander as the result of a final rule of December 14, 2005 (70 FR 74137). The August 31, 2011, final rule erroneously used the word “adding,” which resulted in an additional critical habitat entry being added to the CFR instead of replacing the entry that was already there. Therefore, with this document, we remove from 50 CFR 17.95(d) the entry pertaining to the California tiger salamander in Sonoma County, CA, that was added to the CFR following the 2005 final rule and which should have been removed in 2011.

List of Subjects in 50 CFR Part 17

Endangered and threatened species, Exports, Imports, Reporting and recordkeeping requirements, Transportation.

Regulation Promulgation

For the reasons given in the preamble, we amend part 17, subchapter B of chapter I, title 50 of the Code of Federal Regulations, as set forth below:

PART 17—[AMENDED]

1. The authority citation for part 17 continues to read as follows:

Authority: 16 U.S.C. 1361-1407; 1531-1544; 4201-4245; unless otherwise noted.

§ 17.95 [Amended]

2. Amend § 17.95(d) by removing the words “California Tiger Salamander in Sonoma County—Pursuant to section 4(b)(2) of the Act, we have excluded all areas determined to meet the definition of critical habitat under section 4(b)(2) of the Act for California tiger salamander in Sonoma County. Therefore, no specific areas are designated as critical habitat for this species.”.

Susan L. Wilkinson,
Alternate Federal Register Liaison, U.S. Fish and Wildlife Service.

[FR Doc. 2014-13204 Filed 6-5-14; 8:45 am]

BILLING CODE 4310-55-P